DEPARTMENT OF THE INTERIOR

Minerals Management Service

Agency Information Collection Activities: Proposed Collection; Comment Request

AGENCY: Minerals Management Service (MMS), Interior.

ACTION: Notice of New Information Collection Survey.

SUMMARY: To comply with the requirements of the Paperwork Reduction Act of 1995 (PRA), we are inviting comments on an information collection request (ICR) to conduct a new survey on Potential Impacts of OCS Activities on Bowhead Whale Hunting Activities in the Beaufort Sea. We are preparing an ICR that we will submit to the Office of Management and Budget (OMB) for review and approval.

DATE: Submit written comments by September 12, 2003.

ADDRESSES: Mail or hand carry comments to the Department of the Interior; Minerals Management Service; Attention: Rules Processing Team; Mail Stop 4024; 381 Elden Street; Herndon, Virginia 20170-4817.

FOR FURTHER INFORMATION CONTACT: Contact Arlene Bajusz, Rules Processing Team, telephone (703) 787-1600, to obtain a copy of the survey instruments. For more information on the survey itself, contact Dr. Dee Williams in the MMS Alaska Regional Office, telephone (907) 271-6680.

SUPPLEMENTARY INFORMATION: Title: Survey Instruments—Quantitative Description of Potential Impacts of OCS Activities on Bowhead Whale Hunting Activities in the Beaufort Sea.

OMB Control Number: 1010-NEW.

Abstract: The Minerals Management Service (MMS) of the U.S. Department of the Interior (USDOI) is responsible for oil and gas leasing on the Outer Continental Shelf (OCS) under the OCS Lands Act of 1953, the OCS Lands Act Amendments of 1978 (OCSLA), and the National Environmental Policy Act (NEPA) of 1969. OCSLA and NEPA require assessment of the effects of OCS oil and gas activities on adjacent human and physical environments. Therefore, USDOI/MMS acquires and analyzes and/or oversees collection and analysis of environmental, socio-economic, and socio-cultural information relevant to OCS decisions and uses that information in Environmental Assessments (EA) and Environmental Impact Statements (EIS).

This study is responsive to concerns among North Slope Borough (NSB) residents that oil exploration and development activities in general, and OCS activities in particular, are having an adverse effect on whale hunting and Iñupiat life. There are three general areas of concern. First are the worries over the physical effects of seismic testing; the movement of barges, aircraft, and other transport vessels; and the erection of platforms. Many think these disruptions alter the feeding and migration patterns of bowhead whales and other marine mammals. The result is that fall whaling crews must move further out to sea, thereby increasing both the danger and the costs of the hunt. There is also considerable anxiety over the contamination of wild foods and the environment from drilling cuts, mudflows, and production water wastes and petroleum discharges. Many of the residents in the smaller villages question the long-term consequences of altering freshwater habitats by draining lakes to build ice roads; the interference of oil well structures, fences, and pipeline on caribou crossings and the behavior of other land mammals; or the ability of local residents to access marine and land mammals.

The social, cultural, and economic impact of energy development is a second area of interest and apprehension. There are the direct benefits of economic growth that many look forward to, such as more employment opportunities, more discretionary income, and improved public services. There are also negative trends associated with industrialization, such as general anomie, excessive alcohol and drug use, abusive and self-destructive behavior, higher accident rates, loss of territory, restrictions on land use, loss of language and subsistence skills, dissolution of family relations, decline in community rituals and festivities, and the dilution of cultural values such as sharing, reciprocity, respect for others, and consensual decision making.

There is another, more intangible, worry about what some social scientists call an “opportunity-threat impact” or fears about what might happen to the health and well-being of one's family and community. The implications of economic and social change in the Arctic are not fully understood. Some welcome the transformation of the community and the availability of freshwater, sewers, and better housing. According to others, Iñupiat peoples have “over adapted” to the new industrial economy, which can threaten the long-term survival of cultural traditions and a distinctive way of life.

Whether the changes that accompany economic development are positive or destructive depends heavily on the regulatory regimes and mitigation measures that are in place, a final area of contention. Here, complaints have been voiced about the pressure on the NSB to deal with the accidents and the damages tied to development for which it is not responsible. This puts added stress on the capacity of the NSB to serve the needs of residents and is particularly troublesome in a time of declining revenues and personnel layoffs.

The MMS proposes to collect the information in this study (1) to describe participation in bowhead whale hunting and its importance to and relationship with other traditional activities in three Iñupiat communities on Alaska's North Slope and one control community of similar size in the western part of the State; (2) to describe and analyze community assessments of the effects of oil and gas development and modernization on participation in traditional activities, especially bowhead whale hunting; (3) to describe and analyze community assessments of desired future conditions for whale hunting and related traditional activities; and (4) to describe how oil and gas development and other forces of modernization influence these desired future conditions for whaling and other traditional activities. The information collected will be used in regional EAs and EISs and will be used to make decisions on future oil and gas lease sales in the Beaufort Sea, currently scheduled for 2005 and 2007.

Survey Instruments: An integral aspect of the research effort is the development and administration of three survey instruments that will collect information about the North Slope communities of Barrow, Kaktovik, and Nuiqsut and the “control community” of Savoonga on St. Lawrence Island in the Bering Straits. The survey data are divided into five broad categories: demographic and economic characteristics; quantitative and qualitative summaries of participation in bowhead whaling and other subsistence activities; an assessment of residents' perceptions of the potential threats and benefits of OCS development to subsistence and other traditional activities, especially bowhead whaling; changes in the quality of life in each community, measured in both economic and cultural terms; and the way residents view the likely future of their communities.

The information under this proposed collection will be obtained through personal interviews with three distinct groups: whaling captains, adult-headed households and elders, and high school juniors and seniors. A separate survey, based on previous studies, has been developed for each of these groups.

The Whaling Captain Survey focuses on the patterns of participation in whale hunting activities and the possible impact of OCS development on these patterns. Demographic questions about age, length of time in the community, education, gender, shareholder status in village and regional corporations, and family relations will reveal, in part, a captain's experience, understanding, and perspectives on social change and resource development. The Household Survey focuses on the effects of offshore oil industry activities on individual residents, households, and groups in each community. Population characteristics such as age, number, and relationships of people in the household and level of education are related to changes in employment, income, and economic opportunity. Gender, ethnic background, length of residency, and corporate membership can also result in divergent views about subsistence, development, language, and many other factors. The Student Survey focuses on perceptions about the effects of OCS oil and gas activities, documents student attitudes about Iñupiat traditions, and tracks changes in student behaviors that help assess inter-generational continuities. Responses may vary depending on age, ethnicity, and gender.

It is assumed in all three surveys that Native ancestry is predictably tied to participation in subsistence and other traditional cultural activities. Since only coastal Alaskan Natives can legally hunt bowhead whales and other marine mammals, the survey will include only Native residents. Variation in participation in subsistence and other traditional activities among groups, as well as over time, will be a key analytical focus.

Interview Methods: The interviews for each survey will be done face to face in a setting that is most comfortable for the respondent. This personal method is more expensive and time consuming for the researchers, but these drawbacks are outweighed by improvements in the quality of information obtained and the rapport established between the surveyor and the person interviewed. Telephone interviews have not been successful on the North Slope.

Households in Barrow, Kaktovik, Nuiqsut, and Savoonga (control village) will be randomly chosen for interviews. To achieve the desired statistical confidence level, smaller communities are sampled at a higher rate than are larger ones. Respondents will be paid for taking part in the survey.

Frequency: One-time survey.

Estimated Number and Description of Respondents: Approximately 614 respondents from Alaska's North Slope communities and a control group in western Alaska.

Estimated Reporting and Recordkeeping “Hour” Burden: All three surveys together are estimated to involve about 474 total burden hours, as described in the following chart.

Respondent categories | Estimated hour burden (minutes) | Estimated number of respondents | Estimated annual burden hours (rounded)
Whaling Captains:
Barrow | 50 | 43 | 36
Kaktovik | 50 | 10 | 8
Nuiqsut | 50 | 10 | 8
Savoonga | 50 | 28 | 23
Subtotal |  | 91 | 75
Households:
NSB | 45 | 281 | 211
Control Village | 45 | 70 | 53
Subtotal |  | 351 | 264
Elders:
NSB | 50 | 42 | 35
Control Village | 50 | 20 | 17
Subtotal |  | 62 | 52
High School (total) | 45 | 110 | 83
Grand Total |  | 614 | 474

Estimated Reporting and Recordkeeping “Non-Hour Cost” Burden: No non-hour cost burden has been identified.

Protections of Respondent Confidentiality: Prior to every interview, an introduction will be read to each respondent explaining the voluntary nature of their participation, the right to refuse to answer any question, and the measures that are implemented to protect their confidentiality. With regard to participation in the Student Survey, parents will sign consent forms with an X for minor children who agree to be interviewed. Procedures designed to protect confidentiality will include the use of coded identification numbers to eliminate the use of personal names, reliance upon self-administration for the most sensitive component of the surveys, and strict adherence to the highest code of ethical conduct, including the framework adopted by the U.S. Interagency Arctic Research Policy Committee.

In the Household and Whaling Captain Surveys, there are three possible sensitive questions on annual household income, unemployment, and household finances. These questions have been used many times in past studies with few complaints. During the interviews, respondents will be warned that sensitive questions are coming up and that they may refuse to answer. The self-administered portion of the Student Survey contains sensitive questions about alcohol and drug use and sexual activity. The questions come directly from the Centers for Disease Control semiannual YRBSS questionnaire. This part of the survey will be self-administered, and students may again choose not to answer any question. Upon completion, each student will privately place their questionnaire in a sealed envelope. The envelope will only be opened later by a data processor, who will not be aware of how any particular student answered the questions.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you, as the respondent, have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

The MMS will summarize written responses to this notice and address them in the submission for OMB approval. As a result of your comments, MMS will make any necessary adjustments to the burden in the submission to OMB.

Public Comment Policy: The MMS's practice is to make comments, including names and home addresses of respondents, available for public review during regular business hours. Individual respondents may request that their home address be withheld from the record, which will be honored to the extent allowable by law. If you wish to withhold your name and/or address, you must state this prominently at the beginning of your comment. However, anonymous comments will not be considered. All submissions from organizations or businesses, and from individuals identifying themselves as representatives or officials of organizations or businesses, will be made available for public inspection in their entirety.

MMS Information Collection Clearance Officer: Jo Ann Lauterbach, (202) 208-7744.

Dated: July 3, 2003.
E.P. Danenberger,
Chief, Engineering and Operations Division.

[FR Doc. 03-17663 Filed 7-11-03; 8:45 am]

BILLING CODE 4310-MR-P